DEPARTMENT OF ENERGY

Federal Energy Regulatory Commission

[Project No. 3133-033]

Brookfield White Pine Hydro, LLC; Errol Hydro Co., LLC; Notice of Availability of Final Environmental Assessment

In accordance with the National Environmental Policy Act of 1969 and the Federal Energy Regulatory Commission's (Commission) regulations, 18 CFR part 380, the Office of Energy Projects has reviewed the application for a new license to continue to operate and maintain the Errol Hydroelectric Project. The project is located on the Androscoggin River and Umbagog Lake, near the Town of Errol, and Township of Cambridge, in Coos County, New Hampshire, and the Towns of Magalloway Plantation and Upton in Oxford County, Maine. Commission staff has prepared a Final Environmental Assessment (FEA) for the project. The project would occupy 3,285 acres of federal land in the Umbagog National Wildlife Refuge managed by the U.S. Fish and Wildlife Service.

The FEA contains the staff's analysis of the potential environmental impacts of the project and concludes that licensing the project, with appropriate environmental protective measures, would not constitute a major federal action that would significantly affect the quality of the human environment.

The Commission provides all interested persons with an opportunity to view and/or print the FEA via the internet through the Commission's Home Page (http://www.ferc.gov/), using the “eLibrary” link. Enter the docket number, excluding the last three digits in the docket number field, to access the document. For assistance, contact FERC Online Support at FERCOnlineSupport@ferc.gov, or toll-free at (866) 208-3676, or for TTY, (202) 502-8659.

You may also register online at https://ferconline.ferc.gov/FERCOnline.aspx to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

For further information, contact Shannon Archuleta at (503) 552-2739 or by email at shannon.archuleta@ferc.gov.

Dated: June 15, 2023.
Kimberly D. Bose,
Secretary.

[FR Doc. 2023-13256 Filed 6-21-23; 8:45 am]

BILLING CODE 6717-01-P